DEPARTMENT OF DEFENSE

Office of the Secretary

[Transmittal No. 24-09]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-09, Policy Justification, and Sensitivity of Technology.

Dated: January 2, 2025.
Aaron T. Siegel,
Alternate OSD Federal Register Liaison Officer, Department of Defense.

BILLING CODE 6001-FR-P

Transmittal No. 24-09

Notice of Proposed Issuance of Letter of Offer Pursuant to Section 36(b)(1) of the Arms Export Control Act, as amended

(i) Prospective Purchaser: Taipei Economic and Cultural Representative Office in the United States (TECRO)

(ii) Total Estimated Value:

Major Defense Equipment * | $ 0
Other | $75 million
TOTAL | $75 million

(iii) Description and Quantity or Quantities of Articles or Services under Consideration for Purchase:

Major Defense Equipment (MDE):

None

Non-MDE:

Foreign Military Sales (FMS) Cross Domain Solutions (CDS); High Assurance internet Protocol Encryptor (HAIPE) devices; Global Positioning System (GPS) receivers; communications equipment; requirements analysis; engineering; technical services; and other related elements of logistics and program support.

(iv) Military Department: Navy (TW-P-GQD)

(v) Prior Related Cases, if any: None

(vi) Sales Commission, Fee, etc., Paid, Offered, or Agreed to be Paid: None known

(vii) Sensitivity of Technology Contained in the Defense Article or Defense Services Proposed to be Sold: See Attached Annex

(viii) Date Report Delivered to Congress: February 21, 2024

* as defined in Section 47(6) of the Arms Export Control Act.

POLICY JUSTIFICATION

Taipei Economic and Cultural Representative Office in the United States—Taiwan Advanced Tactical Data Link System Upgrade Planning

The Taipei Economic and Cultural Representative Office in the United States (TECRO) has requested to buy Foreign Military Sales (FMS) Cross Domain Solutions (CDS); High Assurance devices; Global Positioning System (GPS) receivers; communications equipment; requirements analysis; engineering; technical services; and other related elements of logistics and program support. The estimated total cost is $75 million.

This proposed sale is consistent with U.S. law and policy as expressed in Public Law 96-8.

This proposed sale serves U.S. national, economic, and security interests by supporting the recipient's continuing efforts to modernize its armed forces and maintain a credible defensive capability. The proposed sale will help improve the security of the recipient and assist in maintaining political stability, military balance, and economic progress in the region.

The proposed sale will improve the recipient's ability to meet current and future threats by enhancing communications and network security, and providing infrastructure to allow the secure flow of tactical information. The recipient will have no difficulty absorbing this support and equipment into its armed forces.

The proposed sale of this equipment and support will not alter the basic military balance in the region.

The principal contractor(s) will be determined through U.S. Government competitive processes. There are no known offset agreements proposed in connection with this potential sale.

Implementation of this proposed sale will require an estimated 200 U.S. Government personnel and 200 U.S. contractor representatives to travel to the recipient, as required, to provide engineering and technical support services as well as program and technical reviews.

There will be no adverse impact on U.S. defense readiness as a result of this proposed sale.

Transmittal No. 24-09

Notice of Proposed Issuance of Letter of Offer Pursuant to Section 36(b)(1) of the Arms Export Control Act

Annex

Item No. vii

(vii) Sensitivity of Technology:

1. The Foreign Military Sales (FMS) Cross Domain Solution (CDS) provides a gateway that allows for secure exchange of information between networks.

2. The High Assurance internet Protocol Encryptor (HAIPE) devices provide a gateway that allows two enclaves to securely exchange data over a network.

3. The Global Positioning System (GPS) Precise Positioning System (PPS) Host Application Equipment (HAE) GPS/Inertial Navigation System (INS) with chipset to receive the M-code signal is a self-contained navigation system that provides the following: acceleration, velocity, position, attitude, platform azimuth, magnetic and true heading, altitude, body angular rates time tags, and coordinated universal time (UTC) synchronized time. The M-code chipset enables the GPS receiver access to the encrypted M-code signal providing protection against active spoofing attacks and improved jamming resistance.

4. The highest level of classification of defense articles, components, and services included in this potential sale is SECRET.

5. If a technologically advanced adversary were to obtain knowledge of the specific hardware and software elements, the information could be used to develop countermeasures that might reduce weapon system effectiveness or be used in the development of a system with similar or advanced capabilities.

6. A determination has been made that the recipient can provide substantially the same degree of protection for the sensitive technology being released as the U.S. Government. This sale is necessary in furtherance of the U.S. foreign policy and national security objectives outlined in the Policy Justification.

7. All defense articles and services listed in this transmittal have been authorized for release and export to the recipient.

[FR Doc. 2025-00154 Filed 1-7-25; 8:45 am]

BILLING CODE 6001-FR-P